DEPARTMENT OF TRANSPORTATION

Federal Aviation Administration

14 CFR Part 39

[Docket No. FAA-2009-0462; Directorate Identifier 2009-NM-063-AD; Amendment 39-15913; AD 2009-11-03]

RIN 2120-AA64

Airworthiness Directives; Lockheed Model 382, 382B, 382E, 382F, and 382G Series Airplanes

AGENCY: Federal Aviation Administration (FAA), DOT.

ACTION: Final rule; request for comments.

SUMMARY: We are adopting a new airworthiness directive (AD) for all Lockheed Model 382, 382B, 382E, 382F, and 382G series airplanes. This AD requires an inspection to identify discrepant barrel nuts in the upper wing joint, engine truss, and rear beam pylon support; and replacement of any discrepant barrel nut with a new barrel nut, if necessary. This AD results from a report of severe cracking of multiple barrel nuts in the wing station (WS) 220 upper wing joint found during scheduled maintenance. We are issuing this AD to prevent cracking of the barrel nuts in the upper wing joint, engine truss, and rear beam pylon support, which could result in reduced structural integrity of the affected part and consequent detachment of the wing or engine from the airplane.

DATES: This AD is effective June 4, 2009.

The Director of the Federal Register approved the incorporation by reference of a certain publication listed in the AD as of June 4, 2009.

We must receive comments on this AD by July 20, 2009.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact Lockheed Continued Airworthiness Project Office, Attention Airworthiness, 86 South Cobb Drive, Marietta, Georgia 30063-0567; telephone 770-494-5444; fax 770-494-5445; e-mail ams.portal@lmco.com; Internet http://www.lockheedmartin.com/ams/tools/TechPubs.html.

Examining the AD Docket

You may examine the AD docket on the Internet at http://www.regulations.gov, or in person at the Docket Management Facility between 9 a.m. and 5 p.m., Monday through Friday, except Federal holidays. The AD docket contains this AD, the regulatory evaluation, any comments received, and other information. The street address for the Docket Office (telephone 800-647-5527) is in the ADDRESSES section. Comments will be available in the AD docket shortly after receipt.

FOR FURTHER INFORMATION CONTACT: Carl Gray, Aerospace Engineer, Airframe Branch, ACE-117A, FAA, Atlanta Aircraft Certification Office, One Crown Center, 1895 Phoenix Boulevard, Suite 450, Atlanta, Georgia 30349; telephone (770) 703-6131; fax (770) 703-6097.

SUPPLEMENTARY INFORMATION:

Discussion

We received a report of severe cracking of multiple barrel nuts in the wing station (WS) 220 upper wing joint found during scheduled maintenance. Deformed thread locking barrel nuts having a certain part number were identified as having greater potential for cracking during routine service. The affected nut might also be installed at the quick engine change (QEC) lower attachment to the truss mount and at the outer wing station (OWS) 330 rear beam pylon attach fitting. This condition, if not corrected, could result in reduced structural integrity of the affected part and consequent detachment of the wing or engine from the airplane.

Relevant Service Information

We reviewed Lockheed Alert Service Bulletin A382-57-91, Revision 1, dated March 25, 2009. The service bulletin describes procedures for an inspection to identify discrepant barrel nuts (with deformed thread locking, impression stamp “K,” no impression stamp, or cracking) in the upper wing joint, engine truss, and rear beam pylon support; and replacement of any discrepant barrel nut with a new barrel nut, if necessary.

FAA's Determination and Requirements of This AD

We are issuing this AD because we evaluated all the relevant information and determined the unsafe condition described previously is likely to exist or develop in other products of these same type designs. This AD requires accomplishing the actions specified in the service information described previously, except as discussed under “Differences Between the AD and the Service Information.”

Differences Between the AD and the Service Information

Although the Accomplishment Instructions of Lockheed Alert Service Bulletin A382-57-91, Revision 1, dated March 25, 2009, specify that operators may contact the manufacturer for disposition of certain repair conditions, this AD would require operators to repair those conditions using a method approved by the FAA.

The Accomplishment Instructions of Lockheed Alert Service Bulletin A382-57-91, Revision 1, dated March 25, 2009, recommend inspecting to identify discrepant barrel nuts before further flight, but we have determined that this compliance time would not give operators enough time to inspect all affected airplanes. In developing an appropriate compliance time for this AD, we considered the manufacturer's recommendation, the degree of urgency associated with the subject unsafe condition, the average utilization of the affected fleet, and the time necessary to perform the inspection (1 work-hour). In light of all these factors, we find that a 30-day compliance time represents an appropriate time for affected airplanes to continue to operate without compromising safety. These differences have been coordinated with the manufacturer.

FAA's Justification and Determination of the Effective Date

Because of our requirement to promote safe flight of civil aircraft and thus the critical need to prevent cracking of certain barrel nuts which could result in reduced structural integrity of the affected part and consequent detachment of the wing or engine, and the short compliance time involved with this action, this AD must be issued immediately.

Because an unsafe condition exists that requires the immediate adoption of this AD, we find that notice and opportunity for prior public comment hereon are impracticable and that good cause exists for making this amendment effective in less than 30 days.

Comments Invited

This AD is a final rule that involves requirements affecting flight safety, and we did not provide you with notice and an opportunity to provide your comments before it becomes effective. However, we invite you to send any written data, views, or arguments about this AD. Send your comments to an address listed under the ADDRESSES section. Include “Docket No. FAA-2009-0462; Directorate Identifier 2009-NM-063-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979), and

(3) Will not have a significant economic impact, positive or negative, on a substantial number of small entities under the criteria of the Regulatory Flexibility Act.

You can find our regulatory evaluation and the estimated costs of compliance in the AD Docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2009-11-03 Lockheed: Amendment 39-15913. Docket No. FAA-2009-0462; Directorate Identifier 2009-NM-063-AD.

Effective Date

(a) This airworthiness directive (AD) is effective June 4, 2009.

Affected ADs

(b) None.

Applicability

(c) This AD applies to all Lockheed Model 382, 382B, 382E, 382F, and 382G series airplanes, certificated in any category.

Subject

(d) Air Transport Association (ATA) of America Code 57: Wings.

Unsafe Condition

(e) This AD results from a report of severe cracking of multiple barrel nuts in the wing station (WS) 220 upper wing joint found during scheduled maintenance. We are issuing this AD to prevent cracking of the barrel nuts in the upper wing joint, engine truss, and rear beam pylon support, which could result in reduced structural integrity of the affected part and consequent detachment of the wing or engine from the airplane.

Compliance

(f) You are responsible for having the actions required by this AD performed within the compliance times specified, unless the actions have already been done.

Inspection/Replacement if Necessary

(g) Within 30 days after the effective date of this AD: Do a general visual inspection to identify discrepant barrel nuts in the upper wing joint, engine truss, and rear beam pylon support, in accordance with the Accomplishment Instructions of Lockheed Alert Service Bulletin A382-57-91, Revision 1, dated March 25, 2009. Except as provided by paragraph (h) of this AD, if any discrepant barrel nut is found, before further flight, replace the barrel nut with a new barrel nut in accordance with the service bulletin.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

Exception to Corrective Action Instructions

(h) If any discrepant barrel nut is found during the inspection required by this AD, and Lockheed Alert Service Bulletin A382-57-91, Revision 1, dated March 25, 2009, specifies contacting Lockheed for appropriate action: Before further flight, replace the discrepant barrel nut using a method approved by the Manager, Atlanta Aircraft Certification Office (ACO), FAA. For a repair method to be approved by the Manager, Atlanta ACO, as required by this paragraph, the Manager's approval letter must specifically refer to this AD.

Credit for Actions Done Using Previous Service Information

(i) Actions done before the effective date of this AD in accordance with Lockheed Alert Service Bulletin A382-57-91, dated March 6, 2009, are acceptable for compliance with the corresponding requirements of this AD.

Reporting Not Required

(j) Although Lockheed Alert Service Bulletin A382-57-91, Revision 1, dated March 25, 2009, specifies to submit certain information to the manufacturer, this AD does not include that requirement.

Parts Installation

(k) As of the time specified in paragraph (k)(1) or (k)(2) of this AD, as applicable, no person may install, on any airplane, a barrel nut in the upper wing joint, engine truss, and rear beam pylon support unless the barrel nut has been modified in accordance with the Accomplishment Instructions of Lockheed Alert Service Bulletin A382-57-91, Revision 1, dated March 25, 2009.

(1) For unmarked barrel nuts with a deformed thread locking style: As of 30 days after the effective date of this AD.

(2) For all other discrepant barrel nuts: As of the effective date of this AD.

Alternative Methods of Compliance (AMOCs)

(l)(1) The Manager, Atlanta ACO, FAA, has the authority to approve AMOCs for this AD, if requested using the procedures found in 14 CFR 39.19. Send information to ATTN: Carl Gray, Aerospace Engineer, Airframe Branch, ACE-117A, Atlanta ACO, FAA, One Crown Center, 1895 Phoenix Boulevard, Suite 450, Atlanta, Georgia 30349; telephone (770) 703-6131; fax (770) 703-6097.

(2) To request a different method of compliance or a different compliance time for this AD, follow the procedures in 14 CFR 39.19. Before using any approved AMOC on any airplane to which the AMOC applies, notify your principal maintenance inspector (PMI) or principal avionics inspector (PAI), as appropriate, or lacking a principal inspector, your local Flight Standards District Office. The AMOC approval letter must specifically reference this AD.

Material Incorporated by Reference

(m) You must use Lockheed Alert Service Bulletin A382-57-91, Revision 1, dated March 25, 2009, to do the actions required by this AD, unless the AD specifies otherwise.

(1) The Director of the Federal Register approved the incorporation by reference of this service information under 5 U.S.C. 552(a) and 1 CFR part 51.

(2) For service information identified in this AD, contact Lockheed Continued Airworthiness Project Office, Attention Airworthiness, 86 South Cobb Drive, Marietta, Georgia 30063-0567; telephone 770-494-5444; fax 770-494-5445; e-mail ams.portal@lmco.com; Internet http://www.lockheedmartin.com/ams/tools/TechPubs.html.

(3) You may review copies of the service information at the FAA, Transport Airplane Directorate, 1601 Lind Avenue, SW., Renton, Washington. For information on the availability of this material at the FAA, call 425-227-1221 or 425-227-1152.

(4) You may also review copies of the service information that is incorporated by reference at the National Archives and Records Administration (NARA). For information on the availability of this material at NARA, call 202-741-6030, or go to: http://www.archives.gov/federal_register/code_of_federal_regulations/ibr_locations.html.

Issued in Renton, Washington, on May 7, 2009.
Ali Bahrami,
Manager, Transport Airplane Directorate, Aircraft Certification Service.

[FR Doc. E9-11590 Filed 5-19-09; 8:45 am]

BILLING CODE 4910-13-P